DEPARTMENT OF STATE

[Public Notice 6810]

Defense Trade Advisory Group Meeting Agenda

Summary: As announced in the Federal Register (Volume 74, Number 218, Pages 58675-58676) the Defense Trade Advisory Group (DTAG) will meet in open session from 1 p.m. until 5 p.m. on Friday, December 4, 2009. The meeting agenda will be as follows: 1 until 1:15 Opening Remarks; 1:15-2:45 Export Control Reform; 2:45-3:00 Break; 3-3:45 Draft revision to ITAR Section 126.4; 3:45-4:45 Draft revision to ITAR Section 129; 4:45-5 Concluding Remarks. The draft revisions to ITAR Sections 126.4 and 129 that will be discussed at the meeting will be posted on the PM/DDTC Web site (http://www.pmddtc.state.gov) prior to the meeting in order to provide attendees with the opportunity to review before the meeting. Please refer to the Federal Register Notice referenced above for particulars regarding location of meeting and attendance.

Dated: 18 November 2009.
Robert S. Kovac,
Designated Federal Officer, Defense Trade Advisory Group, Department of State.

[FR Doc. E9-28273 Filed 11-24-09; 8:45 am]

BILLING CODE 4710-25-P